NUCLEAR REGULATORY COMMISSION

10 CFR Part 73

[NRC-2011-0017]

RIN 3150-AI49

Draft Weapons Safety Assessment on the Use of Enhanced Weapons; Notice of Availability and Request for Comment

AGENCY: Nuclear Regulatory Commission.

ACTION: Notice of availability and request for public comment.

SUMMARY: The U.S. Nuclear Regulatory Commission (Commission or NRC) is seeking input from the public, licensees, certificate holders, and other stakeholders on a draft guidance document entitled “Weapons Safety Assessment” (WSA). This guidance would be used by licensees and certificate holders applying to the NRC to obtain enhanced weapons under the NRC's proposed rule titled “Enhanced Weapons, Firearms Background Checks, and Security Event Notifications,” published in the Proposed Rule section of today's Federal Register (NRC-2011-0018). A completed WSA would be part of an application to the NRC for the use for enhanced weapons.

The Commission is authorized under Section 161A of the Atomic Energy Act of 1954, as amended (AEA), to approve licensees' and certificate holders' possession of enhanced weapons as part of a protective strategy for defending NRC-regulated facilities and radioactive material against malevolent acts. Volumes 1 through 3 of the draft WSA are being issued for public review and comment.

DATES: Submit comments on Volumes 1 through 3 of the draft WSA by May 4, 2011. Comments received after this date will be considered if it is practical to do so, but the NRC is able to ensure consideration only for comments received on or before this date.

ADDRESSES: You may submit comments by any one of the following methods. Please include Docket ID: NRC-2011-0017 in the subject line of your comments. Comments submitted in writing or in electronic form will be posted on the NRC Web site and on the Federal rulemaking Web site at http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

To ensure efficient and complete comment resolution, you should reference the section and page numbers of the WSA volume to which the comment applies. You should not include any site-specific security information in your comments.

Federal rulemaking Web site: Go to http://www.regulations.gov and search for documents filed under Docket ID: NRC-2011-0017. Address questions about NRC dockets to Carol Gallagher, telephone: 301-492-3668; e-mail: Carol.Gallagher@nrc.gov.

Mail comments to: Cindy Bladey, Chief, Rules, Announcements, and Directives Branch (RADB), Division of Administrative Services, Office of Administration, Mail Stop: TWB-05-B01M, U.S. Nuclear Regulatory Commission, Washington, DC 20555-0001, or by fax to RADB at 301-492-3446.

You can access publicly available documents related to this notice using the following methods.

NRC's Public Document Room (PDR): The public may examine and have copied, for a fee, publicly available documents at the NRC's PDR, Room O-1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. Volumes 1 through 3 of the draft WSA are publicly available under ADAMS Package No. ML103190273.

Federal rulemaking Web site: Public comments and supporting materials related to this notice can be found at http://www.regulations.gov by searching for documents filed under Docket ID: NRC-2011-0017.

FOR FURTHER INFORMATION CONTACT: Philip Brochman, Office of Nuclear Security and Incident Response, U.S. Nuclear Regulatory Commission, Washington, DC 20555-0001; telephone: 301-415-6557; e-mail: Phil.Brochman@nrc.gov; or Susan Bagley, Office of Nuclear Security and Incident Response, U.S. Nuclear Regulatory Commission, Washington, DC 20555-0001; telephone: 301-415-2240; e-mail: Susan.Bagley@nrc.gov.

SUPPLEMENTARY INFORMATION:

On August 8, 2005, President Bush signed into law the Energy Policy Act of 2005 (EPAct), Public Law 109-58, 119 Stat. 594 (2005). Section 653 of the EPAct amended the AEA by adding Section 161A, “Use of Firearms by Security Personnel” (42 U.S.C. 2201a). Section 161A of the AEA provides the NRC with new authority that will enhance security at designated facilities of NRC licensees and certificate holders. Section 161A also provides the NRC with new authority that will enhance security with respect to the possession or use of certain radioactive material or other property owned or possessed by an NRC licensee or certificate holder, or the transportation of such material or other property that has been determined by the Commission to be of significance to the common defense and security or the public health and safety.

Under Section 161A of the AEA, the Commission is authorized to approve licensees' and certificate holders' possession of enhanced weapons as part of a protective strategy for defending NRC-regulated facilities and radioactive material from malevolent acts. Previously, most NRC licensees and certificate holders were barred under Federal law from possessing such weapons. The NRC is publishing in the Proposed Rules section of today's Federal Register a proposed rule titled “Enhanced Weapons, Firearms Background Checks, and Security Event Notifications (Docket ID: NRC-2011-0018).” The NRC is proposing to add requirements to Title 10 of the Code of Federal Regulations (10 CFR), in Section 73.18, for licensees and certificate holders to apply to the NRC to obtain enhanced weapons (see 10 CFR 73.2 of the proposed rule for a definition of enhanced weapons). Under 10 CFR 73.18(f), licensees and certificate holders applying to the NRC to possess and use enhanced weapons would be required to include a completed WSA as part of their application.

The draft WSA provides a methodology to evaluate and review the safety impacts arising from the proposed use of enhanced weapons on licensee and certificate holder facilities and personnel, and on adjoining public areas. The NRC developed the draft WSA under contract with the U.S. Army Corps of Engineers, Protective Design Center (USACE-PDC), in Omaha, Nebraska. The draft WSA is identified as document number “USACE PDC NRC TR 06-10.1 through 10.5.” When submitted to the NRC as part of an application to obtain enhanced weapons, a completed WSA would be controlled as Safeguards Information or classified National Security Information, as appropriate, because of the sensitive nature of the information contained in the WSA.

The evaluation of the appropriateness of specific types of enhanced weapons at NRC-regulated facilities is a new effort for the NRC. As part of the development process, the NRC staff provided a draft of the WSA to three NRC licensees (two power reactor licensees and a Category I strategic special nuclear material licensee) as part of voluntary pilot program to identify any major challenges to using the WSA template. The results of the pilot program have been incorporated into the draft WSA being submitted for public comment.

The NRC is seeking comments on Volumes 1 through 3 of the draft WSA from the public, licensees, certificate holders, and other stakeholders. The NRC staff also intends to hold a public meeting on the draft WSA in conjunction with other discussions on the proposed rule and the supporting draft guidance documents. The public meeting is intended to answer questions on the draft WSA and facilitate commenters' submission of written comments. The NRC does not intend to receive oral comments on the draft WSA.

The NRC will publish a separate notice on the date and location of this public meeting in the Federal Register.

Dated at Rockville, Maryland this 12th day of January 2011.
For the Nuclear Regulatory Commission.
Richard P. Correia,
Director, Division of Security Policy, Office of Nuclear Security and Incident Response.

[FR Doc. 2011-1781 Filed 2-2-11; 8:45 am]

BILLING CODE 7590-01-P